DEPARTMENT OF THE INTERIOR

National Park Service

Bison Brucellosis Remote Vaccination, Draft Environmental Impact Statement, Yellowstone National Park, WY

AGENCY: National Park Service, Department of the Interior.

ACTION: Notice of Availability of the Draft Environmental Impact Statement for a Bison Brucellosis Remote Vaccination Program, Yellowstone National Park.

SUMMARY: Pursuant to the National Environmental Policy Act of 1969, 42 U.S.C., 4332(2)(C), the National Park Service announces the availability of the Bison Brucellosis Remote Vaccination Draft Environmental Impact Statement (EIS) for Yellowstone National Park.

This planning effort will result in a decision determining whether or not to implement remote delivery of a vaccine to free-ranging bison inside Yellowstone National Park. Three alternatives will be considered including no-action, hand and remote delivery vaccination of young non-pregnant bison, and hand and remote delivery vaccination of young and adult female bison. The no action alternative is to continue the currently authorized syringe vaccination of calves and yearlings periodically captured in pens at the Park boundary. The two remote delivery alternatives include the continuation of the hand delivery program described under no action. The difference between the two remote delivery alternatives is in the age category of bison being targeted for remote delivery. One of the remote delivery alternatives includes adult female bison. A preferred alternative has not been identified in the draft EIS. The final EIS will include a preferred alternative.

The NPS requests comments on the draft EIS from the public, Federal agencies, States agencies, local governments and Tribal governments.

DATES: The National Park Service will accept comments on the Draft Environmental Impact Statement from the public for 60 days after the date the Environmental Protection Agency publishes this Notice of Availability. No public meetings are scheduled at this time.

ADDRESSES: Copies of the draft EIS will be available on the Internet at http://parkplanning.nps.gov/yell and at the Yellowstone Center for Resources, Yellowstone National Park, P.O. Box 168, Yellowstone National Park, Wyoming 82190-0168 (307) 344-2203.

FOR FURTHER INFORMATION CONTACT: Rick Wallen, Bison Ecology and Management Office, Yellowstone National Park, P.O. Box 168, Yellowstone National Park, Wyoming 82190, (307) 344-2213, YELL_Remote_Vaccine@nps.gov.

SUPPLEMENTARY INFORMATION: The National Park Service agreed in the 2000 Record of Decision for the Interagency Bison Management Plan to evaluate an in-park, remote delivery vaccination program for bison. The purpose of remote delivery vaccination is to deliver a low risk, effective vaccine to eligible bison inside the park to (1) decrease the probability of bison shedding Brucella abortus, (2) lower the brucellosis infection rate, and (3) increase tolerance for bison on essential winter ranges in Montana.

If you wish to comment, you may submit your comments by any one of several methods. You may mail comments to the Bison Ecology and Management Office, Center for Resources, P.O. Box 168, Yellowstone National Park, Wyoming 82190. You may also comment via the Internet at http://parkplanning.nps.gov/yell. Finally, you may hand-deliver comments to the Center for Resources at 27 Officer's Row in Yellowstone National Park, Wyoming. Comments will not be accepted by facsimile, electronic mail, or methods other than those specified above. Before including your address, phone number, e-mail address, or other personal identifying information in your comment, you should be aware that your entire comment—including your personal identifying information—may be made publicly available at any time. While you can ask us in your comment to withhold your personal identifying information from public review, we cannot guarantee that we will be able to do so.

Dated: April 12, 2010.
Mary Gibson Scott,
Acting Regional Director, Intermountain Region, National Park Service.

[FR Doc. 2010-11640 Filed 5-14-10; 8:45 am]

BILLING CODE 4312-CT-P